DEPARTMENT OF THE INTERIOR

National Park Service

[NPS-WASO-NAGPRA-15436; [PPWOCRADN0-PCU00RP14.R50000]

Notice of Inventory Completion: The Florida Department of State, Division of Historical Resources, Tallahassee, FL

AGENCY: National Park Service, Interior.

ACTION: Notice.

SUMMARY: The Florida Department of State, Division of Historical Resources, has completed an inventory of human remains, in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to The Florida Department of State, Division of Historical Resources. If no additional requestors come forward, transfer of control of the human remains to the Indian tribes or Native Hawaiian organizations stated in this notice may proceed.

DATES: Representatives of any Indian tribe or Native Hawaiian organization not identified in this notice that wish to request transfer of control of these human remains should submit a written request with information in support of the request to The Florida Department of State, Division of Historical Resources, at the address in this notice by June 16, 2014.

ADDRESSES: Daniel M. Seinfeld, Florida Department of State, Division of Historical Resources, 1001 de Soto Park Drive, Tallahassee, FL 32301, telephone (850) 245-6301, email daniel.seinfeld@dos.myflorida.com.

SUPPLEMENTARY INFORMATION: Notice is here given in accordance with the Native American Graves Protection and Repatriation Act (NAGPRA), 25 U.S.C. 3003, of the completion of an inventory of human remains under the control of the Florida Department of State, Division of Historical Resources. The human remains were removed from sites in Palm Beach, Jefferson, Brevard, and Marion Counties, FL, and other indeterminate locations in Florida.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Florida Department of State, Division of Historical Resources, professional staff in consultation with representatives of the Miccosukee Tribe of Indians and the Seminole Tribe of Florida (previously listed as the Seminole Tribe of Florida (Dania, Big Cypress, Brighton, Hollywood & Tampa Reservations)). The Seminole Nation of Oklahoma was contacted and invited to consult, but did not participate.

History and Description of the Remains

In February 2013, human remains representing, at minimum, one individual were removed from an area near the Boca Raton Beach Midden 5 site (8PB51), in the city of Boca Raton, Palm Beach County, FL. Private citizens reported the discovery of human remains to local police and the Boca Raton Police Department transferred the human remains to the District 15 Office of the Medical Examiner. The Florida Department of State, Division of Historical Resources, assumed jurisdiction over the human remains in March 2013, based on responsibilities outlined in Florida Statute 872.05. The human remains were determined to be those of a prehistoric Native American adult, based on dental wear. No known individuals were identified. No associated funerary objects are present. Site 8PB51 is a known prehistoric site known to contain burials.

In November of 2009, human remains representing, at minimum, one individual were removed from the Coon Bottom Mound (8JE13), in Jefferson County, FL. A Florida Bureau of Archaeological Research employee inadvertently removed the human remains from a site during surface investigation of previously disturbed areas. The human remains include cranial and long bone fragments. The human remains were determined to be those of a prehistoric Native American individual, based on staining and mineralization. No known individuals were identified. No associated funerary objects are present. Site 8JE13 is a known mound and midden site. The human remains were found in association with midden soil and a variety of ceramic sherds that date from 500 B.C. to A.D. 1000.

On January 14, 2013, human remains representing, at minimum, one individual were removed from the Silver Glen Springs Run site (8MR3605), in Marion County, FL. Florida Fish and Wildlife Commission Law Enforcement confiscated the human remains from a suspect who was illegally excavating and removing archeological materials from submerged portions of the site. The Florida Department of State, Division of Historical Resources, assumed jurisdiction over the human remains, based on responsibilities outlined in Florida Statute 872.05. The human remains include one mid-shaft fragment of a human tibia. The human remains were determined to be those of a prehistoric Native American individual, based on staining and demineralized appearance as well as archeological context. No known individuals were identified. No associated funerary objects are present. Site 8MR350 is a multi-component site in the St. Johns region, and disarticulated human remains sometimes occur outside of defined burial contexts.

At an unknown date, human remains representing, at minimum, one individual were removed from the Rattlesnake Hammock site (8BR3), in Hatbill Park, Brevard County, FL. In 2013, human remains, pottery fragments, and faunal bone from Hatbill Park, possibly collected in the 1970s, were transferred between private citizens. In July 2013, an attorney for one of the private citizens arranged to transfer the human remains to the Florida Department of State, Division of Historical Resources, who assumed jurisdiction, based on responsibilities outlined in Florida Statute 872.05. The human remains include rib fragments, metacarpals, phalanges, and a vertebral fragment. The human remains were determined to be a prehistoric Native American individual, based on the likely context and condition. No known individuals were identified. No associated funerary objects are present. Site 8BR3 is a shell midden that is known to contain human remains. The box containing the human remains also contained fiber tempered pottery, Deptford Check Stamped pottery, St. Johns ware pottery, and faunal bone. These pottery types are diagnostic of the Orange through St. Johns II periods (2600 B.C.-A.D. 1500).

At an unknown date, human remains representing, at minimum, one individual were removed an unknown site in Brevard County, FL. In 2013, human remains, pottery fragments, and faunal bone labeled “Ais Remains,” possibly collected in the 1970s, were transferred between private citizens. In July 2013, an attorney for one of the private citizens arranged to transfer the human remains to the Florida Department of State, Division of Historical Resources, who assumed jurisdiction, based on responsibilities outlined in Florida Statute 872.05. The human remains include a right ulna fragment, a cranial fragment, and a molar. The human remains were determined to be a prehistoric Native American individual, based on osteological assessment and likely context. No known individuals were identified. No associated funerary objects are present. The Ais were a historically recorded Native American group who lived in eastern Florida, including Brevard County, but is unclear how accurate this label is. Based on the degree of mineralization, the human remains are prehistoric and from an archeological context.

At an unknown date, human remains representing, at minimum, three individuals were removed an unknown site in Florida. The Daytona Police Department discovered human remains and archeological artifacts at an estate sale on April 29, 2012. The human remains were transferred to the Medical Examiner's office in Daytona Beach, FL, who then sent the human remains to the University of Florida's C.A. Pound Human Identification Laboratory for analysis. The Florida Department of State, Division of Historical Resources, assumed jurisdiction over the human remains in March 2013, based on responsibilities outlined in Florida Statute 872.05. The human remains include cranial and long bone fragments from, at minimum, three individuals. The human remains were determined to be prehistoric Native American individuals, based on the condition of the remains and archeological context. No known individuals were identified. No associated funerary objects are present. St. Johns ware pottery was found with the human remains, which is consistent with archeological sites in Daytona, FL.

Determinations Made by the Florida Department of State, Division of Historical Resources

Officials at the Florida Department of State, Division of Historical Resources, have determined that:

• Pursuant to 25 U.S.C. 3001(9), the human remains described in this notice are Native American based on osteological analysis and archaeological context.

• Pursuant to 25 U.S.C. 3001(9), the human remains described in this notice represent the physical remains of a minimum of eight individuals of Native American ancestry.

• Pursuant to 25 U.S.C. 3001(2), a relationship of shared group identity cannot be reasonably traced between the Native American human remains and any present-day Indian tribe.

• According to final judgments of the Indian Claims Commission, the land from which the Native American human remains were removed is the aboriginal land of the Seminole Tribe of Florida (previously listed as the Seminole Tribe of Florida (Dania, Big Cypress, Brighton, Hollywood & Tampa Reservations)) and The Seminole Nation of Oklahoma.

• Pursuant to 43 CFR 10.11(c)(1), the disposition of the human remains may be to the Seminole Tribe of Florida (previously listed as the Seminole Tribe of Florida (Dania, Big Cypress, Brighton, Hollywood & Tampa Reservations)) and The Seminole Nation of Oklahoma.

Additional Requestors and Disposition

Representatives of any Indian tribe or Native Hawaiian organization not identified in this notice that wish to request transfer of control of these human remains should submit a written request with information in support of the request to Daniel M. Seinfeld, Florida Department of State, Division of Historical Resources, 1001 de Soto Park Drive, Tallahassee, FL 32301, telephone (850) 245-6301, email daniel.seinfeld@dos.myflorida.com, by June 16, 2014. After that date, if no additional requestors have come forward, transfer of control of the human remains to the Seminole Tribe of Florida (previously listed as the Seminole Tribe of Florida (Dania, Big Cypress, Brighton, Hollywood & Tampa Reservations)) and The Seminole Nation of Oklahoma may proceed.

The Florida Department of State, Division of Historical Resources, is responsible for notifying the Seminole Tribe of Florida (previously listed as the Seminole Tribe of Florida (Dania, Big Cypress, Brighton, Hollywood & Tampa Reservations)) and The Seminole Nation of Oklahoma that this notice has been published.

Dated: March 31, 2014.
Sherry Hutt,
Manager, National NAGPRA Program.

[FR Doc. 2014-11252 Filed 5-14-14; 8:45 am]

BILLING CODE 4312-50-P